DEPARTMENT OF HEALTH AND HUMAN SERVICES

Administration for Children and Families

Proposed Information Collection Activity; Comment Request

Title: Evaluation of the Child Welfare Capacity Building Collaborative.

OMB No.: New Collection.

Description: The Evaluation of the Child Welfare Capacity Building Collaborative is sponsored by the Children's Bureau, Administration for Children and Families of the U.S. Department of Health and Human Services. The Capacity Building Collaborative includes three centers (Center for States, Center for Tribes, Center for Courts) funded by the Children's Bureau to provide national child welfare expertise and evidence-informed training and technical assistance services to State, Tribal and Territorial public child welfare agencies and Court Improvement Programs (CIPs). The Centers offer a wide array of services including, but not limited to: Web-based content and resources, product development and dissemination, self-directed and group-based training, virtual learning and peer networking events, and tailored consultation and coaching. During the project period the Centers' services will be evaluated by both Center-specific evaluations and a Cross-Center Evaluation. The Center-specific evaluations are designed to collect data on Center-specific processes and outcomes. The Cross-Center Evaluation is designed to respond to a set of cross-cutting evaluation questions posed by the Children's Bureau. The Cross-Center Evaluation will examine: The extent to which key partners across and within the Centers are collaborating; whether the capacity building service interventions offered by the Centers are evaluable; the degree to which Centers follow common protocols; whether service interventions are delivered or performed as designed; how satisfied recipients are with the services received; how effective the service interventions were; which service approaches were most effective and under what conditions; and the costs of services.

The Cross-Center Evaluation is utilizing a longitudinal mixed methods approach to evaluate the Centers' services as they develop and mature over the course of the study period. Multiple data collection strategies will be used to efficiently capture quantitative and qualitative data to enable analyses that address each evaluation question. Proposed Cross-Center Evaluation data sources for this effort include (1) satisfaction surveys to assess recipients' satisfaction with services, such as the Learning Experiences Satisfaction Survey; (2) a leadership interview, administered to all State child welfare directors, Tribal child welfare directors, and CIP coordinators that are receiving services from the Centers; and (3) a collaboration survey, an annual Web-based survey administered to the directors and staff of the three Centers. Center-specific data sources for this effort include (1) assessment tools such as the Tribal Organizational Assessment Caseworker Interview; and (2) service-specific feedback forms, such as the Center for States Intensive Projects instrument and the Center for Courts CQI Workshops instrument.

Respondents: Respondents of data collection instruments will include (1) child welfare and judicial professionals that use the Centers' Web pages, products, and online courses, that participate in virtual or in-person trainings or peer events, and that receive brief or intensive tailored services from the Centers; (2) State child welfare directors, Tribal child welfare directors, and CIP coordinators that are receiving services from the Centers; and (3) the directors and staff of the three Capacity Building Centers. The proposed data collection will span four years.

Annual Burden Estimates
Instrument | Annual number of respondents | Number of responses per respondent | Average burden hours per response | Total annual burden hours
Webpage & Product Satisfaction Survey | 1,560 | 1 | .08 | 125
Learning Experiences Satisfaction Survey | 500 | 1 | .33 | 165
Learning Experience Module Survey | 900 | 1 | .08 | 72
Peer Event Satisfaction Survey | 5,502 | 1 | .08 | 441
Assessment & Capacity Building Plan Satisfaction Survey | 450 | 1 | .066 | 30
Center for Tribes Contact Form | 50 | 1 | .05 | 3
Center for Tribes Demographic Survey | 20 | 1 | 1.75 | 35
Tribal Organizational Assessment Caseworker Interview | 20 | 1 | 1.25 | 25
Tribal Organizational Assessment Community Provider Interview | 16 | 1 | 1.25 | 20
Tribal Organizational Assessment Community Member/Elder Interview | 12 | 1 | 1.0 | 12
Tribal Organizational Assessment Family Interview | 14 | 1 | 1.0 | 14
Center for States Information and Referral | 12 | 1 | .05 | 1
Center for States Intensive Projects | 330 | 2 | .33 | 218
Center for States Constituency Groups | 400 | 2 | .33 | 264
Center for States Consultant Feedback Form | 156 | 1 | .13 | 21
Center for States Brief Services | 125 | 1 | .33 | 42
CIP Annual Meeting Survey | 200 | 1 | .13 | 26
Center for Courts CQI Workshops | 48 | 1 | .17 | 8
Leadership Interview—States | 13 | 2 | 1 | 26
Leadership Interview—CIPs | 13 | 2 | 1 | 26
Leadership Interview—Tribes | 8 | 2 | 1.25 | 20
Leadership Interview Part II—Tribes | 8 | 2 | .67 | 11
Annual Collaboration Survey | 230 | 1 | .36 | 83

Estimated Total Annual Burden Hours: 1,688.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-27833 Filed 10-30-15; 8:45 am]

BILLING CODE 4184-01-P